NUCLEAR REGULATORY COMMISSION

[Docket No. 72-17; NRC-2019-0165]

Portland General Electric Company; Eugene Water and Electric Board, and PacifiCorp; Trojan Independent Spent Fuel Storage Installation

AGENCY: Nuclear Regulatory Commission.

ACTION: License renewal; issuance.

SUMMARY: The U.S. Nuclear Regulatory Commission (NRC) has issued a renewed license to Portland General Electric (PGE), Eugene Water and Electric Board, and PacifiCorp (together “licensee”) for Special Nuclear Materials (SNM) License No. SNM-2509 for the receipt, possession, transfer, and storage of spent fuel from the Trojan Nuclear Plant in the Trojan Independent Spent Fuel Storage Installation (ISFSI), located in Columbia County, Oregon. The renewed license authorizes operation of the Trojan ISFSI in accordance with the provisions of the renewed license and its technical specifications. The renewed license expires on March 31, 2059.

DATES: The license referenced in this document is available on August 9, 2019.

ADDRESSES: Please refer to Docket ID NRC-2019-0165 when contacting the NRC about the availability of information regarding this document. You may obtain publicly-available information related to this document using any of the following methods:

• Federal Rulemaking Website: Go to https://www.regulations.gov and search for Docket ID NRC-2019-0165. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Christopher T. Markley, Office of Nuclear Material Safety and Safeguards, U.S. Nuclear Regulatory Commission, Washington, DC 20555-0001; telephone: 301-415-6293, email: Christopher.Markley@nrc.gov.

SUPPLEMENTARY INFORMATION:

I. Discussion

Based upon the application dated March 23, 2017, as supplemented January 29, 2019, February 21, 2019, and June 10, 2019, the NRC has issued a renewed license to the licensee for the Trojan ISFSI, located in Columbia County, Oregon. The renewed license SNM-2509 authorizes and requires operation of the Trojan ISFSI in accordance with the provisions of the renewed license and its technical specifications. The renewed license will expire on March 31, 2059.

The licensee's application for a renewed license complies with the standards and requirements of the Atomic Energy Act of 1954, as amended (the Act), and the NRC's rules and regulations. The NRC has made appropriate findings as required by the Act and the NRC's regulations in Chapter 1 of title 10 of the Code of Federal Regulations (10 CFR), and sets forth those findings in the renewed license. The agency afforded an opportunity for a hearing in the Notice of Opportunity for a Hearing published in the Federal Register on August 18, 2017 (82 FR 39463). The NRC received no request for a hearing or petition for leave to intervene following the notice.

The NRC staff prepared a safety evaluation report for the renewal of the ISFSI license and concluded, based on that evaluation, the ISFSI will continue to meet the regulations in 10 CFR part 72. The NRC staff also prepared an environmental assessment and finding of no significant impact for the renewal of this license, which were published on July 8, 2019 (84 FR 32478). The NRC staff's consideration of the impacts of continued storage of spent nuclear fuel (as documented in NUREG-2157, “Generic Environmental Impact Statement for Continued Storage of Spent Fuel”) was included in the environmental assessment. The NRC staff concluded that renewal of this ISFSI license will not have a significant impact on the quality of the human environment.

II. Availability of Documents

The following table includes the ADAMS accession numbers for the documents referenced in this notice. For additional information on accessing ADAMS, see the ADDRESSES section of this document.

Document | ADAMS accession No.
Licensee's application, dated March 23, 2017 | ML17086A039.
Response to First Request for Additional Information, dated January 23, 2019 | ML19028A411.
Response to Request for Referenced Information, dated February 21, 2019 | ML19057A148.
Response to Request for Referenced Information, dated June 10, 2019 | ML19164A182.
Special Nuclear Materials License No. SNM-2509 | ML19221B649.
SNM-2507 2509 Technical Specifications | ML19221B650.
NRC Safety Evaluation Report | ML19221B651.
NRC Environmental Assessment | ML19058A264.
NUREG-2157, “Generic Environmental Impact Statement for Continued Storage of Spent Fuel” | ML14196A105, ML14196A107.

Dated at Rockville, Maryland, this 12th day of August, 2019.
For the Nuclear Regulatory Commission.
Meraj Rahimi,
Chief, Renewals and Materials Branch, Division of Spent Fuel Management, Office of Nuclear Material Safety and Safeguards.

[FR Doc. 2019-17581 Filed 8-15-19; 8:45 am]

BILLING CODE 7590-01-P